DEPARTMENT OF TRANSPORTATION

Federal Highway Administration

23 CFR Part 771

Federal Transit Administration

49 CFR Part 622

[Docket No. FHWA-2013-0007]

FHWA RIN 2125-AF48

FTA RIN 2132-AB05

Environmental Impact and Related Procedures

Correction

The correction that appeared on page 15925, Wednesday, March 13, 2013 is corrected to read as follows:

On page 13609, in the first column, the docket number should read as set forth above.

[FR Doc. C2-2013-04678 Filed 4-2-13; 8:45 am]

BILLING CODE 1505-01-D